DEPARTMENT OF TRANSPORTATION

Federal Aviation Administration

14 CFR Part 95

[Docket No. 30278; Amdt. No. 432]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, December 27, 2001.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, D.C. on November 1, 2001.
Nicholas A. Sabatini,
Director, Flight Standards Service.

Adoption of the Amendment

Accordingly, pursuant to the authority delegated to me by the Administrator, part 95 of the Federal Aviation Regulations (14 CFR part 95) is amended as follows effective at 0901 UTC, December 27, 2001.

PART 95—[Amended]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 432 effective date: December 27, 2001]
From | To | MEA
§ 95.6001 Victor Routes—U.S.
§ 95.6003 VOR Federal Airway 3 is Amended to Read in Part
Brunswick, GA VORTAC | *Broun, GA FIX | **2,000
*11,000-MRA
**1,500-MOCA
Broun, GA FIX | *Harps, GA FIX | 2,200
*3,000-MRA
Harps, GA FIX | Savannah, GA VORTAC | *2,000
*1,500-MOCA
§ 95.6037 VOR Federal Airway 37 is Amended to Read in Part
Brunswick, GA VORTAC | *Broun, GA FIX | **2,000
*11,000-MRA
**1,500-MOCA
Broun, GA FIX | *Harps, GA FIX | 2,200
*3,800-MRA
Harps, GA FIX | Savannah, GA VORTAC | *2,000
*1,500-MOCA
§ 95.6078 VOR Federal Airway 78 is Amended to Read in Part
Zable, MI FIX | Banjo, MI FIX | *5,000
*2,900-MOCA
§ 95.6133 VOR Federal Airway 133 is Amended to Read in Part
Whipp, MI FIX | *Ladin, MI FIX | **5,000
*5,000-MRA
**2,800-MOCA
Ladin, MI FIX | Borin, MI FIX | *5,000
*2,700-MOCA
Borin, MI FIX | Traverse City, MI VORTAC | *5,000
*2,500-MOCA
Traverse City, MI VORTAC | Escanaba, MI VORTAC | *5,000
*2,700-MOCA
§ 95.6184 VOR Federal Airway 184 is Amended to Read in Part
Delro, PA FIX | Modena, PA VORTAC | *10,000
*3,900-MOCA
§ 95.6198 VOR Federal Airway 198 is Amended to Read in Part
Seeds, TX FIX | Wemar, TX FIX | *2,500
*1,800-MOCA
§ 95.6212 VOR Federal Airway 212 is Amended to Read in Part
Seeds, TX FIX | Wemar, TX FIX | *2,500
*1,800-MOCA
§ 95.6213 VOR Federal Airway 213 is Amended to Read in Part
Sparta, NJ VORTAC | Flosi, NY FIX | *4,000
*3,200-MOCA
Flosi, NY FIX | Weets, NY FIX | *5,500
*4,000-MOCA
§ 95.6215 VOR Federal Airway 215 is Amended to Read in Part
White Cloud, MI VORTAC | *Ladin, MI FIX | 4,000
*5,000-MRA
Ladin, MI FIX | *Carga, MI FIX | 4,000
*5,000-MRA
§ 95.6222 VOR Federal Airway 222 is Amended to Read in Part
Stonewall, TX VORTAC | Marcs, TX FIX | *4,500
*4,000-MOCA
§ 95.6233 VOR Federal Airway 233 is Amended to Read in Part
Mount Pleasant, MI VOR/DME | *Carga, MI FIX | 5,500
*5,000-MRA
Carga, MI FIX | Gaylord, MI VOR/DME | 3,000
§ 95.6249 VOR Federal Airway 249 is Amended to Read in Part
Sparta, NJ VORTAC | Flosi, NY FIX | *4,000
*3,200-MOCA
Flosi, NY FIX | Weets, NY FIX | *5,500
*4,000-MOCA
§ 95.6289 VOR Federal Airway 289 is Amended to Read in Part
Honee, TX FIX | Lufkin, TX VORTAC | *3,000
*1,900-MOCA
§ 95.6297 VOR Federal Airway 297 is Amended to Read in Part
Banjo, MI FIX | Zable, MI FIX | *5,000
*2,900-MOCA
§ 95.6358 VOR Federal Airway 358 is Amended to Read in Part
San Antonio, TX VORTAC | Guada, TX FIX | *4,000
*2,800-MOCA
Guada, TX FIX | Stonewall, TX VORTAC | 4,000
Stonewall, TX VORTAC | Lampasas, TX VORTAC | *3,800
*3,200-MOCA
§ 95.6474 VOR Federal Airway 474 is Amended to Read in Part
Delro, PA FIX | Modena, PA VORTAC | *10,000
*3,900-MOCA
§ 95.6556 VOR Federal Airway 556 is Amended to Read in Part
Junction, TX VORTAC | Stonewall, TX VORTAC | 4,000
Stonewall, TX VORTAC | Marcs, TX FIX | *4,500
*4,000-MOCA
Marcs, TX FIX | Seeds, TX FIX | *7,500
*1,900-MOCA
Seeds, TX FIX | Wemar, TX FIX | *2,500
*1,800-MOCA
§ 95.6568 VOR Federal Airway 568 is Amended to Read in Part
San Antonio, TX VORTAC | Guada, TX FIX | *4,000
*2,800-MOCA
§ 95.6579 VOR Federal Airway 579 is Amended to Read in Part
Cross City, FL VORTAC | Valdosta, GA VOR/DME | 2,000
Tift Myers, GA VOR | Vienna, GA VORTAC | 2,100

[FR Doc. 01-28002 Filed 11-6-01; 8:45 am]

BILLING CODE 4910-13-M